DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before March 25, 2013.

ADDRESSES: You may send comments to Mary A. Wood, Alcohol and Tobacco Tax and Trade Bureau, at any of these addresses:

• U.S. mail: 1310 G Street NW., Box 12, Washington, DC 20005;

• Hand delivery/courier in lieu of mail: 1310 G Street NW., Suite 200E, Washington, DC 20005;

• 202-453-2686 (facsimile); or

• formcomments@ttb.gov (email).

Please send separate comments for each specific information collection listed below. You must reference the information collection's title, form or recordkeeping requirement number, and OMB number (if any) in your comment. If you submit your comment via facsimile, please send no more than five 8.5 x 11 inch pages in order to ensure our equipment is not overburdened.

FOR FURTHER INFORMATION CONTACT: To obtain additional information, copies of the information collection and its instructions, or copies of any comments received, contact Mary A. Wood, Alcohol and Tobacco Tax and Trade Bureau, 1310 G Street NW., Box 12, Washington, DC 20005; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following TTB forms and recordkeeping requirements:

Title: Drawback on Wines Exported.

OMB Control Number: 1513-0016.

TTB Form Numbers: 5120.24.

Abstract: When proprietors export wines that have been produced, packaged, manufactured, or bottled in the U.S., they may file a claim for drawback of the Federal alcohol excise taxes that have already been paid or determined on the wine. This form notifies TTB that the wine was in fact exported and thus helps to protect the revenue and prevent fraudulent claims.

Current Actions: We are submitting this information collection as a revision. We are making minor revisions to the form for clarity. The burden has slightly increased as a result of a slight increase in the number of respondents.

Type of Review: Revision of a currently approved collection.

Affected Public: Business or other for-profit.

Estimated Number of Respondents: 30.

Estimated Total Annual Burden Hours: 134.

Title: Specific Transportation Bond—Distilled Spirits and Wines Withdrawn for Transportation to Manufacturing Bonded Warehouse—Class Six; and Continuing Transportation Bond—Distilled Spirits and Wines Withdrawn for Transportation to Manufacturing Bonded Warehouse—Class Six.

OMB Control Number: 1513-0031.

TTB Form Numbers: 5100.12 and 5110.67, respectively.

Abstract: TTB F 5100.12 and TTB F 5110.67 are specific bonds that protect the Federal alcohol excise tax liability on distilled spirits and wine while in transit from one type of bonded facility to another. The forms identify the shipment, the parties involved, the date, and the amount of bond coverage.

Current Actions: We are submitting this information collection for extension purposes only. The information collection, estimated number of respondents, and estimated total annual burden hours remain unchanged.

Type of Review: Extension of a currently approved collection.

Affected Public: Business or other for-profit.

Estimated Number of Respondents: 10.

Estimated Total Annual Burden Hours: 10.

Title: Usual and Customary Business Records Relating to Tax-Free Alcohol.

OMB Control Number: 1513-0059.

TTB Recordkeeping Number: 5150/3.

Abstract: Tax-free alcohol is used for nonbeverage purposes by educational organizations, hospitals, laboratories, etc. The use of alcohol free of Federal excise tax is regulated to prevent the product's illegal diversion to taxable beverage use. These records maintain spirits accountability and protect tax revenue and public safety. The record retention requirement for this information collection is 3 years.

Current Actions: We are submitting this information collection for extension purposes only. The information collection, estimated number of respondents, and estimated total annual burden hours remain unchanged.

Type of Review: Extension of a currently approved collection.

Affected Public: Not-for-profit institutions; Federal Government; and State, local, or tribal governments.

Estimated Number of Respondents: 4,751.

Estimated Total Annual Burden Hours: One (1).

Title: Letterhead Applications and Notices Relating to Denatured Spirits.

OMB Control Number: 1513-0061.

TTB Record Number: 5150/2.

Abstract: Denatured spirits are used for nonbeverage industrial purposes in the manufacture of personal and household products. Permits and applications control the spirits' authorized uses and distribution, and protect tax revenue and public safety. Letterhead application and notice requirements are used by TTB officials to ensure that lawful and appropriate actions are taken with regard to denatured spirits. The record retention requirement for this information collection is 3 years.

Current Actions: We are submitting this information collection for extension purposes only. The information collection, estimated number of respondents, and estimated total annual burden hours remain unchanged.

Type of Review: Extension of a currently approved collection.

Affected Public: Business or other for-profit; not-for-profit institutions; and State, local, or tribal governments.

Estimated Number of Respondents: 3,778.

Estimated Total Annual Burden Hours: 1,889.

Title: Tobacco Products Importer or Manufacturer—Records of Large Cigar Wholesale Prices.

OMB Number: 1513-0071.

TTB Recordkeeping Number: 5230/1.

Abstract: This information collection applies to importers and manufacturers of large cigars. Records are needed to verify the sale prices of those cigars as the Federal excise tax is based on the sale price. This collection ensures that the appropriate Federal excise tax has been paid. The record retention requirement for this information collection is 3 years.

Current Actions: We are submitting this information collection for extension purposes only. The information collection, estimated number of respondents, and estimated total annual burden hours remain unchanged.

Type of Review: Extension of a currently approved collection.

Affected Public: Business or other for-profit.

Estimated Number of Respondents: 818.

Estimated Total Annual Burden Hours: 1,906.

Title: Application, Permit, and Report—Wine and Beer (Puerto Rico); and Application, Permit, and Report—Distilled Spirits Products (Puerto Rico).

OMB Control Number: 1513-0123.

TTB Record Form: 5100.21 and 5110.51, respectively.

Abstract: TTB F 5100.21 serves as a permit to compute the Federal excise tax on, tax pay, and withdraw shipments of wine or beer from Puerto Rico to the United States, as substantively required by 27 CFR 26.93. TTB F 5110.51 is a permit to compute the Federal excise tax on, tax pay, and withdraw shipments of distilled spirits products from Puerto Rico to the United States, as substantively required by 27 CFR 26.78.

Current Actions: We are submitting this information collection for extension purposes only. The information collection, estimated number of respondents, and estimated total annual burden hours remain unchanged.

Type of Review: Extension of a currently approved collection.

Affected Public: Business or other for-profit.

Estimated Number of Respondents: 35.

Estimated Total Annual Burden Hours: 6.

Title: Petition for the establishment of an American Viticultural Area.

OMB Control Number: 1513-0127.

TTB Recordkeeping and/or Form Number: None.

Abstract: TTB establishes American Viticultural Areas (AVAs) through the regulatory process based on petitions submitted from the public. TTB regulations in 27 CFR part 9 specify the information that must be included in the petition for TTB to consider creating a new AVA or amending the name, boundary, or other terms of an existing AVA.

Current Actions: We are submitting this information collection as an extension. The estimated number of respondents and estimated total annual burden hours remain unchanged.

Type of Review: Extension of a currently approved collection.

Affected Public: Business or other for-profit; farms.

Estimated Number of Respondents: 11.

Estimated Total Annual Burden Hours: 1,430.

Dated: January 15, 2013.
Amy R. Greenberg,
Assistant Director, Regulations and Rulings Division.

[FR Doc. 2013-01092 Filed 1-18-13; 8:45 am]

BILLING CODE 4810-31-P